DEPARTMENT OF COMMERCE

National Oceanic and Atmospheric Administration

[Docket Number: 061208325-6325-01]

Announcement of Funding Opportunity for Social Science Fellowships in the National Estuarine Research Reserve System

AGENCY: Estuarine Reserves Division (ERD), Office of Ocean and Coastal Resource Management (OCRM), National Ocean Service (NOS), National Oceanic and Atmospheric Administration (NOAA), Commerce.

ACTION: Announcement of Funding Opportunity for Social Science Fellowships in the National Estuarine Research Reserve System.

SUMMARY: NOAA's Estuarine Reserves Division, in collaboration with NOAA's Coastal Services Center and Office of Oceanic and Atmospheric Research, Climate Program Office, are offering five fellowships for masters and doctoral students to conduct social science research within the National Estuarine Research Reserve System. Funds will be provided to support research projects that will provide information needed by reserve management and coastal management decision-makers, and improve public awareness and understanding of estuarine ecosystems and estuarine management issues (15 CFR 921.50). The amount of each fellowship is $30,000; at least 30% of total project cost match is required by the applicant (i.e. $12,858 match for $30,000 in federal funds for a total project cost of $42,858). Minority students are encouraged to apply. For detailed descriptions of the reserves and to view the full funding opportunity, refer to the NERRS Web site at http://www.nerrs.noaa.gov or contact the program staff listed in this announcement.

DATES: Applicants should submit application materials through http://www.Grants.gov no later than 11 p.m. (EST) on February 1, 2007.

ADDRESSES: The full funding announcement is available via the grants.gov Web site at http://www.grants.gov; via the NERRS Web site at http://www.nerrs.noaa.gov/fellowship; or by contacting the program officials identified below. Applicants must comply with all requirements contained in the full funding opportunity announcement.

Applications preferably should be submitted electronically at http://www.grants.gov. If a paper application is submitted, one original and 4 copies may be submitted to Attn: Erica Seiden, NOAA's Estuarine Reserves Division, 1305 East-West Highway, N/ORM5, SSMC4, Station 10542, Silver Spring, MD 20910 and received by 11 p.m. (EST) on February 1, 2007. Any proposals received outside of the above requirements will be sent back to the applicant without review.

FOR FURTHER INFORMATION CONTACT: Erica Seiden, ERD, at 301-563-1172 or via the Internet at erica.seiden@noaa.gov; or Patricia Delgado, ERD, at 301-563-1147 or via the Internet at patricia.delgado@noaa.gov.

SUPPLEMENTARY INFORMATION:

Summary Description

The National Estuarine Research Reserve System (NERRS) consists of estuarine areas of the United States and its territories which are designated and managed for research and educational purposes. Each reserve within the system is chosen to reflect regional differences and to include a variety of ecosystem types in accordance with the classification scheme of the national program as presented in 15 CFR 921.

Each reserve supports a wide range of beneficial uses of ecological, economic, recreational, and aesthetic values which are dependent upon the maintenance of a healthy ecosystem. The sites provide habitats for a wide range of ecologically and commercially important species of fish, shellfish, birds, and other aquatic and terrestrial wildlife. Each reserve has been designed to ensure its effectiveness as a conservation unit and as a site for long-term research and monitoring. As part of a national system, the reserves collectively provide an excellent opportunity to address research questions and estuarine management issues of national significance. NOAA's Estuarine Reserves Division, in collaboration with NOAA's Coastal Services Center and Office of Oceanic and Atmospheric Research, Climate Program Office, are offering fellowships for masters and doctoral students to conduct social science research within the National Estuarine Research Reserve System. For detailed descriptions of the reserves and to view the full funding opportunity, refer to the NERRS Web site at http://www.nerrs.noaa.gov or contact the program staff listed in this announcement.

Funds will be provided to support social science research projects that will provide information needed by reserve management and coastal management decision-makers, and improve public awareness and understanding of estuarine ecosystems and estuarine management issues 15 CFR 921.50. All projects must be focused on a National Estuarine Research Reserve. Proposals submitted in response to this announcement should address social, cultural, economic, or policy aspects related to one of the following topics: Community resilience (e.g., individual and community vulnerability; resistance, response, and adaptability to continuous or episodic natural and anthropogenic stressors; risk perception); Ecological restoration (e.g., human behaviors; advocacy and volunteerism; responses to social and ecological change; personal and societal value orientations); Ecosystem-based management (e.g., collaborative decision-making; motivations or preferences for resource uses or management practices; ways in which people affect or are affected by natural resource management decisions; cultural history); Landscape or seascape change (e.g., current or potential effects on or threats to the traits, patterns, or structure of a specific geographic area of the terrestrial or aquatic environment, including its biological, physical, and anthropogenic attributes; population and demographic change; coastal urbanization and habitat fragmentation); or Climate variability and change (e.g., sea level rise; extreme weather events; seasonal or interannual climate fluctuations; effects on water resources, living marine resources, agricultural productivity, delivery of ecosystem services, or public health and safety).

Funding Availability

Funding is dependent upon FY2007 appropriations. NOAA's Estuarine Reserves Division anticipates that 5 fellowships will be competitively awarded to provide funding to qualified graduate students whose research applies to the research focus areas above at the reserves specified in the full funding opportunity. Minority students are encouraged to apply. The amount of the fellowship is $30,000 for 18 months; at least 30% of total project cost match is required by the applicant (i.e. $12,858 match for $30,000 in federal funds for a total project cost of $42,858). At least one fellowship will be awarded for a proposal addressing climate variability and change.

Statutory Authority: 16 U.S.C. 1461

CFDA: 11.420, National Estuarine Research Reserve Program.

Eligibility

Applicants must be admitted to or enrolled in a full-time masters or doctoral program at a U.S. accredited university in order to be eligible to apply. Applicants should have completed a majority of their graduate course work at the beginning of their fellowship and have an approved thesis research program.

Grants are normally distributed to the graduate student's institution. Institutions eligible to receive awards include institutions of higher education, other non-profits, commercial organizations, international organizations, as well as state, local and Indian tribal governments. All reserve staff are ineligible to submit an application for a fellowship under this announcement. Funds are expected to be available on a competitive basis to qualified graduate students for research focused on a reserve(s) leading to a graduate degree.

Cost Sharing Requirements

Requested federal funds must be matched by at least 30 percent of the TOTAL cost, not the Federal share, of the project (i.e. $12,858 match for $30,000 in federal funds for a total project cost of $42,858). Requested overhead costs under fellowship awards are limited to 10% of the federal amount. Waived institutional overhead costs may be used as match.

Intergovernmental Review

Applications under this program are subject to Executive Order 12372, “Intergovernmental Review of Federal Programs.”

Proposal Review and Selection Process

Once a full proposal has been received by NOAA an initial administrative review is conducted to determine compliance with requirements and completeness of the application. All proposals will be evaluated for scientific merit by no less than three reviewers from the scientific community. If any of these three reviewers are non-Federal employees, consensus advice regarding the proposals will not be given. The Estuarine Reserve Division, in collaboration with NOAA's Coastal Services Center and Office of Oceanic and Atmospheric Research, will oversee the review process. Efforts are taken to ensure that conflicts of interest are avoided. It is permissible for applicants to suggest those people whom they feel would have a conflict of interest and therefore not appropriate to review their proposal. The merit reviewer's ratings are used to produce a rank order of the proposals. The Selecting Official shall award in the rank order unless the proposal is justified to be selected out of rank order based upon one of the selection factors identified below. The Selecting Official makes final recommendations for award to the Grants Officer who is authorized to obligate the funds and execute awards.

Evaluation Criteria

Applicants do not need to address Evaluation Criteria Nos. 4 and 5 in order to have a full proposal.

1. Academic record and statement of career goals and objectives of student (10 percent)

2. Quality of project and applicability to program priorities (80 percent)

3. Recommendations and/or endorsements of student (10 percent)

4. Additional relevant experience (0 percent)

5. Financial need of student (0 percent)

Selection Factors for Fellowship/Scholarships/Internships

1. Balance/Distribution of funds:

a. Academic disciplines

b. Types of institutions

c. Geography

2. Availability of funds

3. Program-specific objectives—These are found in the Full Funding Opportunity Announcement in sections I.A and B.

4. Degree in scientific area and type of degree sought

Further details on evaluation and selection criteria and procedures applicable to this notice can be found in the full funding opportunity announcement available through http://www.grants.gov and on the NERRS Web site http://www.nerrs.noaa.gov/fellowship.

National Environmental Policy Act

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm.

Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems).

In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial of an application.

Pre-Award Notification Requirements for Grants and Cooperative Agreements

The Department of Commerce Pre-Award Notification Requirements for Grants and Cooperative Agreements contained in the Federal Register notice of December 30, 2004 (69 FR 78389) are applicable to this solicitation.

Limitation of Liability

In no event will NOAA or the Department of Commerce be responsible for proposal preparation costs if this initiative fails to receive funding or is cancelled because of other agency priorities. Publication of this announcement does not oblige NOAA to award any specific project or to obligate any available funds. Recipients and sub-recipients are subject to all Federal laws, agency policies, regulations and procedures applicable to Federal financial assistance awards.

Paperwork Reduction Act

This notification involves collection-of-information requirements subject to the Paperwork Reduction Act. The use of Standard Forms 424, 424A, 424B, and SF-LLL and CD-346 has been approved by the Office of Management and Budget (OMB) under OMB control numbers 0348-0043, 0348-0044, 0348-0040, 0348-0046 and 0605-0001 respectively. Notwithstanding any other provision of law, no person is required to respond to, nor shall any person be subject to a penalty for failure to comply with, a collection of information subject to the requirements of the PRA unless that collection of information displays a currently valid OMB control number.

Executive Order 12866

It has been determined that this notice is not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: December 12, 2006.
David M. Kennedy,
Director, Office of Ocean and Coastal Resource Management, National Ocean Service, National Oceanic and Atmospheric Administration.

[FR Doc. E6-21450 Filed 12-15-06; 8:45 am]

BILLING CODE 3510-08-P